NUCLEAR REGULATORY COMMISSION

10 CFR Part 50

[NRC-2020-0253]

Advanced Manufacturing Technologies Subtask 2A

AGENCY: Nuclear Regulatory Commission.

ACTION: Public meeting and request for comment.

SUMMARY: The U.S. Nuclear Regulatory Commission (NRC) is issuing a document for public comments as required by Subtask 2A of the Advanced Manufacturing Technologies (AMT) Action Plan, Revision 1. The document addresses the application of quality assurance (QA) criteria and NRC's requirements in its regulations regarding, “Changes, Tests and Experiments,” to the implementation of AMT-fabricated components in U.S. nuclear power plants.

DATES: Submit comments by January 14, 2021. Comments received after this date will be considered if it is practical to do so, but the NRC is able to ensure consideration only for comments received on or before this date. The NRC will hold a public meeting as an online webinar. See Section IV. Public Meeting, of this document for additional information.

ADDRESSES: You may submit comments by any of the following methods (unless this document describes a different method for submitting comments on a specific subject); however, the NRC encourages electronic comment submission through the Federal Rulemaking website:

• Federal Rulemaking Website: Go to https://www.regulations.gov and search for Docket ID NRC-2020-0253. Address questions about NRC Docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Isaac Anchondo-Lopez, Office of Nuclear Reactor Regulation, U.S. Nuclear Regulatory Commission, Washington, DC 20555-0001; telephone: 817-200-1152; email: Isaac.Anchondo-Lopez@nrc.gov.

SUPPLEMENTARY INFORMATION:

I. Obtaining Information and Submitting Comments

A. Obtaining Information

Please refer to Docket ID NRC-2020-0253 when contacting the NRC about the availability of information for this action. You may obtain publicly available information related to this action by any of the following methods:

• Federal Rulemaking Website: Go to https://www.regulations.gov and search for Docket ID NRC-2020-0253.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The draft document entitled “Implementation of Quality Assurance Criteria and 10 CFR 50.59 for Nuclear Power Plant Components Produced Using Advanced Manufacturing Techniques” can be found by searching for ADAMS Accession No. ML20317A005.

• Attention: The PDR, where you may examine and order copies of public documents is currently closed. You may submit your request to the PDR via email at PDR.Resource@nrc.gov or call 1-800-397-4209 between 8:00 a.m. and 4:00 p.m. (EST), Monday through Friday, except Federal holidays.

B. Submitting Comments

The NRC encourages electronic comment submission through the Federal Rulemaking website (https://www.regulations.gov). Please include Docket ID NRC-2020-0253 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC considers AMTs to consist of material processing and component fabrication methods that have not been traditionally used in the U.S. nuclear industry and have not yet received NRC approval through NRC-endorsed codes and standards or the approval of an industry submittal. There are several regulatory paths available to a licensee for utilizing an AMT in a nuclear application including: (1) Development of a Code or Standard that can be incorporated by reference in section 50.55a of title 10 of the Code of Federal Regulations (CFR); (2) selection of an unregulated in-service application; (3) submission of generic technical reports or plant-specific submittals for NRC approval; and (4) implementation of the 10 CFR 50.59, 10 CFR 70.72, or 10 CFR 72.48 process. Industry indicated that plans for the initial installation of AMT-fabricated components would involve the 10 CFR 50.59 process. Therefore, the NRC staff documented a description of the processes, consistent with the QA requirements in Appendix B to 10 CFR part 50 and in accordance with 10 CFR 50.59, “Changes, Tests and Experiments,” to support the staff's performance of potential inspections of a licensee's implementation of these requirements for AMT-fabricated components.

III. Specific Considerations

This report documents completion of the staff's initial review of QA criteria and 10 CFR 50.59 requirements for AMT applications at U.S. nuclear power plants. This report does not represent a complete and final analysis of all aspects of QA criteria and 10 CFR 50.59 requirements and guidance that might be applicable to the use of AMT components at U.S. nuclear power plants. This report does not create new regulatory requirements or establish new regulatory positions with respect to the use or manufacture of AMT components for nuclear power plants. The scope of this report is limited to the review of existing requirements and guidance to address AMT components and the consideration of potential regulatory and technical challenges. This report may be subject to future revision, as additional insights and operating experience for use of AMT components are gained.

The NRC is requesting general comments on this document to be open and transparent in processes involving the installation of AMT-fabricated components.

IV. Public Meeting

The NRC plans to hold a public meeting during the public comment period for this action. A public meeting is planned for December 2020, via webinar. The public meeting will provide forums for the NRC staff to discuss issues and questions with members of the public. The NRC does not intend to provide any responses to comments submitted during the public meeting. The public meeting will be noticed on the NRC's public meeting website at least 10 calendar days before the meeting. Members of the public should monitor the NRC's public meeting website for additional information about the public meetings at https://www.nrc.gov/public-involve/public-meetings/index.cfm. The NRC will post the notices for the public meetings and webinars and may post additional material related to this action to the Federal Rulemaking website at https://www.regulations.gov/ under Docket ID NRC-2020-0253. The Federal Rulemaking website allows you to receive alerts when changes or additions occur in a docket folder. To subscribe: (1) Navigate to the docket folder (NRC-2020-0253); (2) click the “Sign up for Email Alerts” link; and (3) enter your email address and select how frequently you would like to receive emails (daily, weekly, or monthly).

Dated: November 23, 2020.
For the Nuclear Regulatory Commission.
Anna H. Bradford,
Director, Division of New and Renewed Licenses, Office of Nuclear Reactor Regulation.

[FR Doc. 2020-26272 Filed 11-27-20; 8:45 am]

BILLING CODE 7590-01-P